DEPARTMENT OF ENERGY

Federal Energy Regulatory Commission

[Docket No. ER01-1260-000, et al.]

Commonwealth Edison Company, Inc., et al.; Electric Rate and Corporate Regulation Filings

February 22, 2001.

Take notice that the following filings have been made with the Commission:

1. Commonwealth Edison Company, Inc.

[Docket No. ER01-1260-000]

Take notice that on February 20, 2001, Commonwealth Edison Company (ComEd), tendered for filing a Notice of Cancellation for Service Agreement No. 64 (Service Agreement No. 64) and Service Agreement No. 65 (Service Agreement No. 65), effective November 28, 1995, under Commonwealth Edison Company's FERC Electric Tariff, Second Revised Volume No. 3 between ComEd and Louisville Gas and Electric Company/Kentucky Utilities Company (LG&E/KU), and submits for filing a Short-Term Firm Transmission Service Agreement and a Non-Firm Point-to-Point Transmission Service Agreement (New Service Agreements) between ComEd and LGE/KU under the terms of ComEd's Open Access Transmission Tariff, FERC Electric Tariff Volume No. 5 (OATT).

ComEd requests an effective date of March 1, 2001 for the New Service Agreements and an effective date of March 1, 2001 for the cancellation of Service Agreement No. 64 and Service Agreement No. 65.

Copies of this filing were served on LG&E/KU.

Comment date: March 13, 2001, in accordance with Standard Paragraph E at the end of this notice.

2. Exelon Generation Company, L.L.C.

[Docket No. ER01-948-000]

Take notice that on February 20, 2001, Exelon Generation Company, L.L.C. (Exelon), tendered for filing a request that the Federal Energy Regulatory Commission (Commission) hold the filing submitted in this docket in abeyance.

Exelon states that a copy of the filing was served on all parties to the proceeding as well as on all customers under the agreements.

Comment date: March 13, 2001, in accordance with Standard Paragraph E at the end of this notice.

3. Exelon Generation Company, L.L.C.

[Docket No. ER01-1008-000]

Take notice that on February 20, 2001, Exelon Generation Company, L.L.C. (Exelon), tendered for filing a request that the Federal Energy Regulatory Commission (Commission) hold in abeyance the Power Sales Agreement filed with the Commission on January 19, 2001, the above-referenced docket.

Exelon states that a copy of the filing was served on all parties to the proceeding as well as on the customer under the agreement.

Comment date: March 13, 2001, in accordance with Standard Paragraph E at the end of this notice.

4. American Transmission Company LLC

[Docket No. ER01-1262-000]

Take notice that on February 16, 2001, American Transmission Company LLC (ATCLLC), tendered for filing an unexecuted Generator Interconnection Agreement between ATCLLC, RockGen Energy, LLC.

ATCLLC requests an effective date of February 12, 2001.

Comment date: March 9, 2001, in accordance with Standard Paragraph E at the end of this notice.

5. Xcel Energy Services, Inc.

[Docket No. ER01-205-002]

Take notice that on February 16, 2001, Xcel Energy Services, Inc., tendered for filing substitute sheets to its revised wholesale market-based rate tariff, filed on February 14, 2001 in the above-referenced dockets.

Comment date: March 9, 2001, in accordance with Standard Paragraph E at the end of this notice.

6. American Electric Power Service Corporation

[Docket No. ER01-1256-000]

Take notice that on February 20, 2001, the American Electric Power Service Corporation (AEPSC), tendered for filing executed a Network Integration Transmission Service Agreement for The New Power Company, an ERCOT Regional Transmission Service Agreement for Guadalupe Power Partners, LP, and a Long-Term Firm Point-to-Point Transmission Service Agreement Specification for AEPSC's Merchant Organization Power Marketing and Trading Division. All of these agreements are pursuant to the AEP Companies' Open Access Transmission Service Tariff (OATT) that has been designated as the Operating Companies of the American Electric Power System FERC Electric Tariff Second Revised Volume No. 6.

AEPSC requests waiver of notice to permit the Service Agreements to be made effective for service on and after February 1, 2001.

A copy of the filing was served upon the Parties and the state utility regulatory commissions of Arkansas, Indiana, Kentucky, Louisiana, Michigan, Ohio, Oklahoma, Tennessee, Texas, Virginia and West Virginia.

Comment date: March 13, 2001, in accordance with Standard Paragraph E at the end of this notice.

7. Northeast Utilities Service Company

[Docket No. ER01-1261-000]

Take notice that on February 20, 2001, Northeast Utilities Service Company (NUSCO), on behalf of The Connecticut Light and Power Company (CL&P), tendered for filing unexecuted Licensing Engineering and Construction and Interconnection and Operating Agreements between CL&P and Milford Power Company LLC (Milford). NUSCO states that CL&P and Milford are still in the process of negotiating the final terms of the Agreements, but that it is filing the unexecuted Agreements at Milford's request.

NUSCO requests a waiver of the Commission's regulations to permit the Agreements to become effective March 1, 2001, subject to the outcome of further negotiation.

Comment date: March 13, 2001, in accordance with Standard Paragraph E at the end of this notice.

8. Bridgeport Harbor Power LLC, New Haven Harbor Power LLC, NRG Connecticut Power Assets LLC

[Docket Nos. ER01-1257-000, ER01-1258-000, ER01-1259-000]

Take notice that on February 20, 2001, Bridgeport Harbor Power LLC, New Haven Harbor Power LLC, and NRG Connecticut Power Assets LLC, [together the Applicants), limited liability corporations organized under the laws of the State of Delaware, filed, under section 205 of the Federal Power Act, requests that for each of the Applicants the Commission (1) accept for filing proposed market-based FERC Rate Schedules; (2) grant blanket authority to make market-based wholesale sales of capacity and energy under their appropriate FERC Rate Schedules; (3) grant authority to sell ancillary services at market-based rates within the New England Power Pool, as well as the control areas of the New York Independent System Operator, Inc. and the PJM Interconnection, L.L.C.; and (4) grant such waivers and blanket authorizations as the Commission has granted in the past to other nonfranchised entities with market-based rate authority.

Comment date: March 13, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-5035 Filed 3-1-01; 8:45 am]

BILLING CODE 6717-01-P